DEPARTMENT OF HEALTH AND HUMAN SERVICES

Food and Drug Administration

21 CFR Part 1

[Docket No. FDA-2019-N-3325]

RIN 0910-AH31

Laboratory Accreditation for Analyses of Foods; Correction

AGENCY: Food and Drug Administration, Department of Health and Human Services (HHS).

ACTION: Final rule; correction.

SUMMARY: The Food and Drug Administration (FDA or we) is correcting a final rule that appeared in the Federal Register on December 3, 2021. The document amended our regulations to establish a program for the testing of food in certain circumstances by accredited laboratories, as required under the Federal Food, Drug, and Cosmetic Act. The final rule published with some editorial and inadvertent errors. This document corrects those errors.

DATES: Effective February 1, 2022.

FOR FURTHER INFORMATION CONTACT: Stacie Hammack, Food and Feed Laboratory Operations, Office of Regulatory Affairs, Food and Drug Administration, 60 8th Street NE, Atlanta, GA 30309, 301-796-5817, Stacie.Hammack@fda.hhs.gov.

SUPPLEMENTARY INFORMATION: In the Federal Register of Friday, December 3, 2021, in FR Doc. 2021-25716, appearing on page 68728, the following corrections are made:

PART 1—GENERAL ENFORCEMENT REGULATIONS

Subpart R [Corrected]

1. On page 68817, in the second column, in part 1, subpart R, the table of contents entry for § 1.1124 is corrected to read “What are the records requirements for a recognized accreditation body?”.

2. On page 68823, in the first column, in part 1, subpart R, the undesignated heading between §§ 1.1125 and 1.1130 is corrected to read “FDA Oversight of Recognized Accreditation Bodies”.

§ 1.1131 [Corrected]

3. On page 68823, in the second column, § 1.1131(a)(2) is corrected by removing “ISO/IEC 17011:2017 section 9.5” and adding “ISO/IEC 17011:2017(E) section 9.5” in its place.

Dated: January 25, 2022.
Lauren K. Roth,
Associate Commissioner for Policy.

[FR Doc. 2022-02046 Filed 2-1-22; 8:45 am]

BILLING CODE 4164-01-P